DEPARTMENT OF TRANSPORTATION

Federal Motor Carrier Safety Administration

[Docket No. FMCSA-2003-25290]

Commercial Driver's License Standards; Isuzu Motors America, Inc.; Exemption Renewal

AGENCY: Federal Motor Carrier Safety Administration (FMCSA), DOT.

ACTION: Notice of renewal of exemption; request for comments.

SUMMARY: FMCSA announces its decision to renew Isuzu Motors America, Inc.'s (Isuzu) exemption from the Agency's requirement that drivers of commercial motor vehicles (CMVs) possess a commercial driver's license (CDL) issued in the United States. Isuzu requested that its current exemption for 11 Japanese engineers and technicians be renewed to enable them to continue test driving CMVs in the U.S. All 11 individuals are employees of Isuzu and hold a valid Japanese CDL. FMCSA believes the knowledge and skills testing and training program that Japanese drivers must undergo to obtain a Japanese CDL ensures a level of safety that is equivalent to, or greater than, the level of safety that would be obtained by complying with the U.S. requirements for a CDL.

DATES: This decision is effective July 2, 2008. Comments must be received on or before August 1, 2008.

ADDRESSES: You may submit comments identified by Federal Docket Management System Number FMCSA-2003-25290 by any of the following methods:

• Web Site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. e.t., Monday through Friday, except Federal holidays.

Instructions: All submissions must include the Agency name and docket number. For detailed instructions on submitting comments and additional information, see the Public Participation heading below. Note that all comments received will be posted without change to http://www.regulations.gov, including any personal information provided. Please see the Privacy Act heading below.

Docket: For access to the docket to read background documents or comments received, go to http://www.regulations.gov at any time or to the ground floor, room W12-140, DOT Building, New Jersey Avenue, SE., Washington, DC, between 9 a.m. and 5 p.m. e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476), or you may visit http://docketsinfo.dot.gov.

Public participation: The http://www.regulations.gov Web site is generally available 24 hours each day, 365 days each year. You can get electronic submission and retrieval help and guidelines under the “help” section of the http://www.regulations.gov Web site and also at the DOT's http://docketsinfo.dot.gov Web site. If you want us to notify you that we received your comments, please include a self-addressed, stamped envelope or postcard or print the acknowledgement page that appears after submitting comments online. Comments received after the comment closing date will be included in the docket, and we will consider late comments to the extent practicable.

FOR FURTHER INFORMATION CONTACT: Mr. Robert F. Schultz, Jr., FMCSA Office of Bus and Truck Standards and Operations, Driver and Carrier Operations Division, Telephone: 202-366-4325, or e-mail: MCPSD@dot.gov.

SUPPLEMENTARY INFORMATION:

Background

Under 49 U.S.C. 31315, as referenced in section 31136(e), FMCSA may grant an exemption if it finds “such exemption would likely achieve a level of safety that is equivalent to, or greater than, the level that would be achieved absent such exemption.” Exemptions may be granted for up to 2 years from the approval date and may be renewed upon application (49 U.S.C. 31315(b)(1)). The procedure for requesting an exemption (including a renewal) is prescribed by 49 CFR part 381. FMCSA has evaluated Isuzu's application for renewal on its merits and has decided to grant renewal of the exemption for 11 of Isuzu's engineers and technicians for a 2-year period.

Isuzu Application for an Exemption Renewal

Isuzu Motors America, Inc. (Isuzu) has applied for the renewal of an exemption from 49 CFR 383.23, which sets forth rules applicable to drivers operating CMVs in interstate commerce. Isuzu seeks to renew its exemption for 11 of 19 drivers previously granted this exemption on October 16, 2003 (68 FR 59677). On June 21, 2006, the exemption was renewed (71 FR 35725).

Isuzu is seeking renewal of this exemption because the drivers it employs are citizens and residents of Japan, and therefore cannot apply for a CDL from a State of the United States. A copy of the request for renewal is in the docket identified at the beginning of this notice. Renewal of the exemption will enable these 11 drivers to continue to operate CMVs as part of a team of drivers to develop, design and/or test engines for vehicles that will be manufactured, assembled, sold or primarily used in the United States.

The drivers are: Shiro Fukuda, Wataru Kumakura, Takehito Yaguchi, Tsutomu Yamazaki, Toshiya Asari, Shintaro Moroi, Masaru Otsu, Satoru Amemiya, Tsuyoshi Koyama, Nobuyuki Miyazaki, and Hiroyoshi Takahashi. These drivers are a team of Isuzu engineers and technicians who operate CMVs in the United States to test and evaluate production and prototype CMVs to be sold for use on U.S. highways. Isuzu estimates that each driver will drive approximately 5,000 miles per year on U.S. roads. The drivers have valid Japanese-issued CDLs and are experienced CMV operators. Each of the drivers satisfied strict standards in order to obtain a CDL in Japan, and each has extensive CMV training and experience. Isuzu believes that the drivers will continue to achieve a level of safety equivalent to the level of safety that would be obtained absent the exemption. Isuzu states in its application for exemption that none of these drivers received any traffic citations or was involved in any accidents from the inception of the exemption on October 16, 2003, through the date of this application for renewal.

Method To Ensure an Equivalent or Greater Level of Safety

Drivers applying to obtain a Japanese-issued CDL must successfully pass a knowledge test and a skills test before a license to operate a CMV is issued. Prior to taking the tests, drivers are required to hold a conventional driver's license for at least three years. Thus, the requirements of a Japanese-issued CDL are considered comparable to, or at least as effective as, the requirements of 49 CFR part 383. The process of licensure in Japan assesses the driver's ability to operate a CMV in a manner comparable to the process of licensure employed by States of the United States. A driver granted a Japanese CDL may legally operate any CMV permitted on the roads of Japan; there are no limits on the type or weight of vehicles that may be operated by CMV drivers.

Request for Comments

In accordance with 49 U.S.C. 31315(b)(4) and 31136(e), FMCSA requests public comment on Isuzu's request for renewal of the exemption of these 11 CMV drivers from the requirements of 49 CFR 383.23. The Agency requests that interested parties with specific data concerning the safety record of drivers listed in this notice submit comments by August 1, 2008. FMCSA will review all comments received by close of business on this date. To the extent practicable, the Agency will consider comments received in the public docket after this date. Comments will be available for examination in the docket as described in the ADDRESSES section of this notice.

Issued on: June 26, 2008.
Larry W. Minor,
Associate Administrator for Policy and Program Development.

[FR Doc. E8-14995 Filed 7-1-08; 8:45 am]

BILLING CODE 4910-EX-P